DEPARTMENT OF VETERANS AFFAIRS

[OMB Control No. 2900-0760]

Agency Information Collection Activity: Paralympics & Olympics Monthly Training Allowance Application and Certification

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before July 29, 2024.

ADDRESSES: Comments must be submitted through www.regulations.gov.

FOR FURTHER INFORMATION CONTACT:

Program-Specific information: Veta Brooks-Berryman, 202-480-4633, Veta.Brooks1@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Paralympics & Olympics Monthly Training Allowance Application and Certification (VA Forms 0918a & 0918b).

OMB Control Number: 2900-0760. https://www.reginfo.gov/public/do/PRASearch (Once at this link, you can enter the OMB Control Number to find the historical versions of this Information Collection).

Type of Review: Revision of a currently approved collection.

Abstract: Section 703 of the Veterans' Benefits Improvement Act of 2008, Public Law 110-389, authorizes the Department of Veterans Affairs (VA) to administer a monthly assistance allowance to a veteran with a service-connected or non-service-connected disability if the veteran is competing for a slot on or selected for the United States Paralympics and Olympics team or is residing at a United States Paralympics or Olympics training center. The Office of National Veterans Sports Programs and Special Events will use VA Forms 0918a and 0918b to collect information to certify eligibility for the monthly assistance allowance, verify the veteran's mailing address, confirm that he or she has been accepted by the Paralympics or Olympics to compete in a specific Paralympic or Olympic sport, and to determine their marital status and number of dependents for the purpose of assessing payment amounts.

Affected Public: Individuals and households.

Estimated Annual Burden: 43 hours.

Estimated Average Burden per Respondent: 15 minutes.

Frequency of Response: Once annually.

Estimated Number of Respondents: 170.

Authority: 44 U.S.C. 3501 et seq.

Maribel Aponte,
VA PRA Clearance Officer, Office of Enterprise and Integration/Data Governance Analytics, Department of Veterans Affairs.

[FR Doc. 2024-11861 Filed 5-29-24; 8:45 am]

BILLING CODE 8320-01-P